DEPARTMENT OF COMMERCE

Foreign-Trade Zones Board

[Docket 11-2001]

Foreign-Trade Zone 147—Reading, Pennsylvania; Application for Subzone, C&J Clark America, Inc., Distribution of Footwear, Hanover, Pennsylvania

An application has been submitted to the Foreign-Trade Zones Board (the Board) by the Foreign-Trade Zone Corporation of Southeastern Pennsylvania, grantee of FTZ 147, requesting special-purpose subzone status for the footwear warehousing/distribution facility of C&J Clark America, Inc. (Clark), in Hanover, Pennsylvania. The application was submitted pursuant to the provisions of the Foreign-Trade Zones Act, as amended (19 U.S.C. 81a-81u), and the regulations of the Board (15 CFR part 400). It was formally filed on February 15, 2001.

The Clark Hanover Logistics Center (305,668 sq. ft./3 bldgs. on 24.8 acres) is located at 240 Kindig Lane in Conewago Township, just outside Hanover, Pennsylvania. The facilities (210 employees) are used for storage, inspection, repairing, packaging and distribution of footwear received by Clarks Companies, N.A., in North America. Almost all of the products are sourced from abroad and some 8 percent are currently exported.

Zone procedures would exempt Clark from Customs duty payments on foreign products that are reexported. On domestic sales, the company would be able to defer payments until merchandise is shipped from the plant. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at the address below. The closing period for their receipt is April 30, 2001. Rebuttal comments in response to material submitted during the foregoing period may be submitted during the subsequent 15-day period (to May 14, 2001).

A copy of the application and accompanying exhibits will be available for public inspection at each of the following locations:

U.S. Department of Commerce, Export Assistance Center, One Commerce Square, 228 Walnut St., 850, P.O. Box 11698, Harrisburg, Pennsylvania 17108-1698; and

Office of the Executive Secretary, Foreign-Trade Zones Board, U.S. Department of Commerce, Room 4008, 14th & Pennsylvania Avenue, NW, Washington, DC 20230.

Dated: February 15, 2001.
Dennis Puccinelli,
Executive Secretary.

[FR Doc. 01-4774 Filed 2-26-01; 8:45 am]

BILLING CODE 3510-DS-P